DEPARTMENT OF TRANSPORTATION

Federal Aviation Administration

14 CFR Part 39

[Docket No. 2003-CE-53-AD]

RIN 2120-AA64

Airworthiness Directives; Alexander Schleicher Model ASW 27 Sailplanes

AGENCY: Federal Aviation Administration (FAA), DOT.

ACTION: Notice of proposed rulemaking (NPRM).

SUMMARY: The FAA proposes to adopt a new airworthiness directive (AD) for all Alexander Schleicher Model ASW 27 sailplanes equipped with integrated (wet inner surface) water ballast tanks in the wings, which could put the center of gravity (CG) of the sailplane out of the acceptable range. This proposed AD would require you to install a warning placard requiring pilots weighing more than 105 kg (231.5 lbs) to use the rearmost backrest hinge position; and require you to determine the forward empty CG and make any necessary adjustments. This proposed AD is the result of mandatory continuing airworthiness information (MCAI) issued by the airworthiness authority for Germany. We are issuing this proposed AD to correct the CG to the acceptable range when integrated ballast water tanks are installed. Failure of the sailplane to be within the acceptable CG range could result in loss of sailplane control.

DATES: We must receive any comments on this proposed AD by May 14, 2004.

ADDRESSES: Use one of the following to submit comments on this proposed AD:

• By mail: FAA, Central Region, Office of the Regional Counsel, Attention: Rules Docket No. 2003-CE-53-AD, 901 Locust, Room 506, Kansas City, Missouri 64106.

• By fax: (816) 329-3771.

• By e-mail: 9-ACE-7-Docket@faa.gov. Comments sent electronically must contain “Docket No. 2003-CE-53-AD” in the subject line. If you send comments electronically as attached electronic files, the files must be formatted in Microsoft Word 97 for Windows or ASCII.

You may get the service information identified in this proposed AD from Alexander Schleicher GmbH & Co., Segelflugzeugbau, D-36163 Poppenhausen, Germany.

You may view the AD docket at FAA, Central Region, Office of the Regional Counsel, Attention: Rules Docket No. 2003-CE-53-AD, 901 Locust, Room 506, Kansas City, Missouri 64106. Office hours are 8 a.m. to 4 p.m., Monday through Friday, except Federal holidays.

FOR FURTHER INFORMATION CONTACT: Gregory Davison, Aerospace Engineer, Small Airplane Directorate, ACE-112, 901 Locust, Room 301, Kansas City, Missouri 64106; telephone: 816-329-4130; facsimile: 816-329-4090.

SUPPLEMENTARY INFORMATION:

Comments Invited

How Do I Comment on This Proposed AD?

We invite you to submit any written relevant data, views, or arguments regarding this proposal. Send your comments to an address listed under ADDRESSES. Include “AD Docket No. 2003-CE-53-AD” in the subject line of your comments. If you want us to acknowledge receipt of your mailed comments, send us a self-addressed, stamped postcard with the docket number written on it. We will date-stamp your postcard and mail it back to you.

Are There Any Specific Portions of This Proposed AD I Should Pay Attention To?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

The Luftfahrt-Bundesamt (LBA), which is the airworthiness authority for Germany, recently notified FAA that an unsafe condition may exist on certain Alexander Schleicher Model ASW 27 sailplanes with wings equipped with integrated (wet inner surface) water ballast tanks. The LBA reports that water ballast in the integral wing water ballast tanks causes a stronger nose heavy moment than the soft water ballast bags, putting the CG out of acceptable range. To compensate for this, pilots over a certain weight must only use the rearmost backrest position.

What Are the Consequences if the Condition Is Not Corrected?

Failure of the sailplane to be within the acceptable CG range could result in loss of sailplane control.

Is There Service Information That Applies to This Subject?

Alexander Schleicher has issued Technical Note No. 9, dated February 27, 2002.

What Are the Provisions of This Service Information?

The service bulletin includes procedures for: installing a warning placard, amending the manual pages, and checking forward empty weight CG.

What Action Did the LBA Take?

The LBA classified this service bulletin as mandatory and issued German AD Number 2002-086, dated March 7, 2002, to ensure the continued airworthiness of these sailplanes in Germany.

Did the LBA Inform the United States Under the Bilateral Airworthiness Agreement?

These Alexander Schleicher Model ASW 27 sailplanes are manufactured in Germany and are type-certificated for operation in the United States under the provisions of § 21.29 of the Federal Aviation Regulations (14 CFR 21.29) and the applicable bilateral airworthiness agreement.

Under this bilateral airworthiness agreement, the LBA has kept us informed of the situation described above.

FAA's Determination and Requirements of This Proposed AD

What Has FAA Decided?

We have examined the LBA's findings, reviewed all available information, and determined that AD action is necessary for products of this type design that are certificated for operation in the United States.

Since the unsafe condition described previously is likely to exist or develop on other Alexander Schleicher Model ASW 27 sailplanes of the same type design that are registered in the United States, we are proposing AD action to prevent the sailplane from being outside of the acceptable CG range, which could result in loss of sailplane control.

What Would This Proposed AD Require?

This proposed AD would require you to install a warning placard requiring pilots weighing more than 105 kg (231.5 lbs) to use the rearmost backrest hinge position; and require you to determine the forward empty weight CG and make any necessary adjustments.

How Does the Revision To 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Sailplanes Would This Proposed AD Impact?

We estimate that this proposed AD affects 31 sailplanes in the U.S. registry.

What Would be the Cost Impact of This Proposed AD on Owners/Operators of the Affected Sailplanes?

We estimate the following costs to accomplish this proposed modification:

Labor cost | Parts cost | Total cost per airplane | Total cost on U.S. operators
1 work hour est. $60 per hour = $60 | $7 | $67 per airplane | $2,077

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-53-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Alexander Schleicher GmbH & Co.: Docket No. 2003-CE-53-AD.

When Is the Last Date I Can Submit Comments on This Proposed AD?

(a) We must receive comments on this proposed airworthiness directive (AD) by May 14, 2004.

What Other ADs Are Affected by This Action?

(b) None.

What Sailplanes Are Affected by This AD?

(c) This AD affects the following Alexander Schleicher Model ASW 27 sailplanes that are certificated in any category:

Serial numbers | Condition
(1) 27105, 27109, 27110, 27113, 27115, 27116, and 27119 through 27177 | Equipped with integrated (wet inner surface) water ballast tanks on the wing at manufacture.
(2) 27001 and up | Equipped with integrated (wet inner surface) water ballast tanks through wing replacement per Technical Note No. 2.

What is The Unsafe Condition Presented in This AD?

(d) This AD is the result of water ballast in the integral wing water ballast tanks that may cause a stronger nose heavy moment than the soft water ballast bags, putting the center-of-gravity (CG) out of acceptable range. To compensate for this, pilots over a certain weight must only use the rearmost backrest position. The actions specified in this AD are intended to correct the forward empty weight CG and prevent loss of sailplane control.

What Must I Do to Address This Problem?

(e) To address this problem, you must do the following:

Actions | Compliance | Procedures
(1) Fabricate (using letters at least 1/8-inch in height) a warning placard with the following language and install this placard in the cockpit in full view of the pilot: “When water ballast is used, pilots weighing 105 kg (231.5 lbs) or more including parachute must use the rearmost back rest hinge position!” | Warning placard must be installed within 25 hours time in service (TIS) after the effective date of this AD | Install placard following Alexander Schleicher Technical Note No. 9, dated February 27, 2002.
(2) Determine the forward empty weight CG (i) If the CG is out of acceptable range, prior to further flight, contact the manufacturer at Alexander Schleicher GmbH & Co., Seglflugzeugbau, D-36163 Poppenhausen, Germany for corrective action and perform the corrective action. (ii) If CG is within acceptable range, no further action is necessary. | Within the next 50 hours TIS after the effective date of this AD | Check forward empty weight of CG following Alexander Schleicher Technical Note No. 9, dated February 27, 2002.

Note: Alexander Schleicher Technical Note No. 9, dated February 27, 2002, changes some pages to the maintenance manual. We recommend that you review those changes.

May I Request an Alternative Method of Compliance?

(f) You may request a different method of compliance or a different compliance time for this AD by following the procedures in 14 CFR 39.13. The principal inspector may add comments and will send your request to the Manager, Standards Office, FAA, Small Airplane Directorate, 901 Locust, Room 301, Kansas City, MO 64106. For information on any already approved alternative methods of compliance, contact Gregory Davison, Aerospace Engineer, Small Airplane Directorate, ACE-112, 901 Locust, Room 301, Kansas City, Missouri 64106; telephone: 816-329-4130; facsimile: 816-329-4090.

May I Get Copies of the Documents Referenced in This AD?

(g) You may get copies of the documents referenced in this AD from Alexander Schleicher GmbH & Co., Seglflugzeugbau, D-36163 Poppenhausen, Germany. You may view these documents at FAA, Central Region, Office of the Regional Counsel, 901 Locust, Room 506, Kansas City, Missouri 64106.

Is There Other Information That Relates to This Subject?

(h) LBA AD 2002-086, dated March 7, 2002, and Alexander Schleicher Technical Note No. 9, dated February 27, 2002 also address the subject of this AD.

Issued in Kansas City, Missouri, on April 2, 2004.
Dorenda D. Baker,
Manager, Small Airplane Directorate, Aircraft Certification Service.

[FR Doc. 04-8453 Filed 4-13-04; 8:45 am]

BILLING CODE 4910-13-P